FEDERAL COMMUNICATIONS COMMISSION

[FRS 20906]

Radio Broadcasting Services; AM or FM Proposals To Change the Community of License

AGENCY: Federal Communications Commission.

ACTION: Notice.

DATES: The agency must receive comments on or before June 22, 2021.

ADDRESSES: Federal Communications Commission, 45 L Street NE, Washington, DC 20554.

FOR FURTHER INFORMATION CONTACT: Rolanda F. Smith, 202-418-2054.

SUPPLEMENTARY INFORMATION: The following applicants filed AM or FM proposals to change the community of license: AKAL MEDIA KKDZ, INC., KKDZ(AM), Fac. ID No. 12112, From SEATTLE, WA, To KENT, WA, File No. BP-20210315AAH; L.M. COMMUNICATIONS, INC., WGKS(FM), Fac. ID No. 36140, From PARIS, KY, To STAMPING GROUND, KY, File No. 0000136127; STONECOM COOKEVILLE, LLC, WLIV-FM, Fac. ID No. 57190, From MONTEREY, TN, To Algood, TN, File No. 0000138108; CLARITY COMMUNICATIONS, INC., WLXO(FM), Fac. ID No. 59387, From STAMPING GROUND, KY, To PARIS, KY, File No. 0000136119; and FAMILY LIFE MINISTRIES INC, WMTT-FM, Fac. ID No. 10688, From HORSEHEADS, NY To ENFIELD, NY, File No. 0000143176. The full text of these applications is available electronically via the Media Bureau's Consolidated Data Base System, https://licensing.fcc.gov/prod/cdbs/pubacc/prod/app_sear.htm or Licensing and Management System (LMS), https://apps2int.fcc.gov/dataentry/public/tv/publicAppSearch.html.

Federal Communications Commission.
Nazifa Sawez,
Assistant Chief, Audio Division, Media Bureau.

[FR Doc. 2021-08534 Filed 4-22-21; 8:45 am]

BILLING CODE 6712-01-P